NUCLEAR REGULATORY COMMISSION

[Docket Nos. 50-334 and 50-412]

FirstEnergy Corporation and FirstEnergy Nuclear Operating Company; Notice of Receipt and Availability of Application for Renewal of Beaver Valley Power Station, Units 1 and 2 Facility Operating License Nos. DPR-66 and NPF-73 for an Additional 20-year Period

The U.S. Nuclear Regulatory Commission (NRC or Commission) has received an application, dated February 9, 2005, from FirstEnergy Corporation and FirstEnergy Nuclear Operating Company, filed pursuant to sections 104b (DPR-66) and 103 (NPF-73) of the Atomic Energy Act of 1954, as amended, and 10 CFR part 54, to renew the operating licenses for the Beaver Valley Power Station, Units 1 and 2, respectively. Renewal of the licenses would authorize the applicant to operate each facility for an additional 20-year period beyond the period specified in the respective current operating licenses. The current operating license for Beaver Valley Power Station, Unit 1 (DPR-66) expires on January 29, 2016. The current operating license for Beaver Valley Power Station, Unit 2 (NPF-73) expires on May 27, 2027. Beaver Valley Power Station, Units 1 and 2 are pressurized water reactors designed by Westinghouse. Both units are located near Shippingport, PA. The acceptability of the tendered application for docketing, and other matters, including an opportunity to request a hearing, will be the subject of subsequent Federal Register notices.

Copies of the application are available for public inspection at the Commission's Public Document Room (PDR), located at One White Flint North, 11555 Rockville Pike (first floor), Rockville, Maryland 20582 or electronically from the NRC's Agencywide Documents Access and Management System (ADAMS) Public Electronic Reading Room under accession number ML050540047. The ADAMS Public Electronic Reading Room is accessible from the NRC Web site at http://www.nrc.gov/reading-rm/adams.html. In addition, the application is available at http://www.nrc.gov/reactors/operating/licensing/renewal/applications.html, on the NRC Web page, while the application is under review. Persons who do not have access to ADAMS or who encounter problems in accessing the documents located in ADAMS should contact the NRC's PDR Reference staff at 1-800-397-4209, extension (301) 415-4737, or by e-mail to pdr@nrc.gov.

A copy of the license renewal application for the Beaver Valley Power Station, Units 1 and 2, is also available to local residents near the Beaver Valley Power Station, Units 1 and 2, at the B. F. Jones Memorial Library, 663 Franklin Ave., Aliquippa, PA 15001.

Dated at Rockville, Maryland, this 23 day of February 2005.
For the Nuclear Regulatory Commission.
Pao-Tsin Kuo, Program Director,
License Renewal and Environmental Impacts, Division of Regulatory Improvement Programs, Office of Nuclear Reactor Regulation.

[FR Doc. 05-4174 Filed 3-3-05 8:45 am]

BILLING CODE 7590-01-P